DEPARTMENT OF HOMELAND SECURITY

Coast Guard

[Docket No. USCG-2019-0481]

Great Lakes Pilotage Advisory Committee; Meeting

AGENCY: U.S. Coast Guard, Department of Homeland Security.

ACTION: Notice of Federal Advisory Committee meeting.

SUMMARY: The Great Lakes Pilotage Advisory Committee will meet in Port Huron, Michigan, to discuss Committee matters relating to Great Lakes pilotage, including review of proposed Great Lakes pilotage regulations and policies. The meeting will be open to the public.

DATES: Meeting: The Great Lakes Pilotage Advisory Committee will meet on Thursday, September 12, 2019, from 8 a.m. to 5:30 p.m. EDT. Please note that this meeting may adjourn early if the Committee has completed its business.

Comments and supporting documents: To ensure your comments are received by Committee members before the meeting, submit your written comments no later than August 30, 2019.

ADDRESSES: The meeting will be held at the Great Lakes Maritime Center, 51 Court Street, Port Huron, MI 48060.

Pre-registration Information: Pre-registration is not required for access. All attendees will be required to provide a government-issued picture identification card in order to gain admittance to the building.

For information on facilities or services for individuals with disabilities or to request special assistance at the meeting, contact the individual listed in the FOR FURTHER INFORMATION CONTACT section of this notice.

Instructions: You are free to submit comments at any time, including orally at the meetings, but if you want Committee members to review your comment before the meetings, please submit your comments no later than August 30, 2019. We are particularly interested in comments on the issues in the “Agenda” section below. You must include the words “Department of Homeland Security” and the docket number USCG-0481. Written comments may also be submitted using the Federal e-Rulemaking Portal at http://www.regulations.gov. If you encounter technical difficulties with comment submission, contact the individual listed in the FOR FURTHER INFORMATION CONTACT section below. Comments received will be posted without alteration at http://www.regulations.gov, including any personal information provided. You may review the Privacy and Security Notice for the Federal Docket Management System at https://www.regulations.gov/privacyNotice.

Docket Search: For access to the docket or to read documents or comments related to this notice, go to http://www.regulations.gov, and use “USCG-2019-0481” in the “Search” box, press Enter, and then click on the item you wish to view.

FOR FURTHER INFORMATION CONTACT: Ms. Ellen Engleman Conners, Alternate Designated Federal Officer of the Great Lakes Pilotage Advisory Committee, email Ellen.EnglemanConners@uscg.mil or telephone (202) 578-2815.

SUPPLEMENTARY INFORMATION: Notice of this meeting is in compliance with the Federal Advisory Committee Act, Title 5, U.S.C. Appendix. The Great Lakes Pilotage Advisory Committee is established under the authority of 46 U.S.C. 9307, and makes recommendations to the Secretary of Homeland Security and the Coast Guard on matters relating to Great Lakes pilotage, including review of proposed Great Lakes pilotage regulations and policies.

Agenda

The Great Lakes Pilotage Advisory Committee will meet on Thursday, September 12, 2019 to review, discuss, deliberate and formulate recommendations, as appropriate, on the following topics:

1. Status of GLPAC Member Terms & Appointments

2. Rulemaking Update

3. SeaPro Demonstration

4. Rulemaking Methodology

a. Traffic Projections & Methodology

b. Separate Rates for voluntary pilotage

c. Use of Financial Information in Rate-setting

d. Current Pilot Workforce Levels

e. Transparency Improvements

f. Training expenditures/investments

5. Dispatch Procedures

a. Current

b. Cruise Ship Impact and Tanker Proposal

6. Pilot Association Projects and Updates

7. Stakeholder Engagement

8. GAO Report Update

9. Cost Control and Efficiency Study

10. Coast Guard Maritime Safety Risk Study

11. Amending Designated Waters

12. Canadian Pilotage Reform Legislation

13. Legal Fees

14. Public Comments

A copy of all meeting documentation will be available at https://dco.uscg.afpims.mil/Our-Organization/Assistant-Commandant-for-Prevention-Policy-CG-5P/Marine-Transportation-Systems-CG-5PW/Office-of-Waterways-and-Ocean-Policy/Office-of-Waterways-and-Ocean-Policy-Great-Laskes-Pilotage-Div/ by August 30, 2019. Alternatively, you may contact Ms. Ellen Engleman Conners as noted in the FOR FURTHER INFORMATION CONTACT section above.

Public comments or questions will be taken throughout the meeting as the Committee discusses the issues and prior to deliberations and voting. There will also be a public comment period at the end of the meeting. Speakers are requested to limit their comments to 5 minutes. Please note that the public comment period will end following the last call for comments. Contact the individual listed in the FOR FURTHER INFORMATION CONTACT section above, to register as a speaker.

Dated: August 12, 2019.
Michael D. Emerson,
Director, Marine Transportation Systems.

[FR Doc. 2019-17739 Filed 8-16-19; 8:45 am]

BILLING CODE 9110-04-P